DEPARTMENT OF COMMERCE

International Trade Administration

[A-523-812, A-535-903, A-520-807]

Circular Welded Carbon-Quality Steel Pipe From the Sultanate of Oman, Pakistan, and the United Arab Emirates: Amended Final Affirmative Antidumping Duty Determination and Antidumping Duty Orders

AGENCY: Enforcement and Compliance, International Trade Administration, Department of Commerce.

SUMMARY: Based on affirmative final determinations by the Department of Commerce (the Department) and the International Trade Commission (the ITC), the Department is issuing antidumping duty orders on circular welded carbon-quality steel pipe from the Sultanate of Oman (Oman), Pakistan, and the United Arab Emirates (UAE). In addition, as explained in this notice, the Department is amending its final affirmative determination with respect to Oman as a result of a ministerial error.

DATES: Effective December 19, 2016.

FOR FURTHER INFORMATION CONTACT: Kate Johnson at (202) 482-4949 (Oman), David Lindgren at (202) 482-3870 (Pakistan), or Blaine Wiltse at (202) 482-6345 (UAE), AD/CVD Operations, Enforcement and Compliance, International Trade Administration, U.S. Department of Commerce, 1401 Constitution Avenue NW., Washington, DC 20230.

SUPPLEMENTARY INFORMATION:

Background

In accordance with sections 735(d) and 777(i)(1) of the Tariff Act of 1930, as amended (the Act), and 19 CFR 351.210(c), on October 28, 2016, the Department published its affirmative final determinations in the less-than-fair-value (LTFV) investigations of circular welded carbon-quality steel pipe from Oman, Pakistan, and the UAE.¹ On December 12, 2016, the ITC notified the Department of its affirmative determinations that an industry in the United States is materially injured within the meaning of section 735(b)(1)(A)(i) of the Act, by reason of the LTFV imports of circular welded carbon-quality steel pipe from Oman, Pakistan, and the UAE.²

¹ See Circular Welded Carbon-Quality Steel Pipe from the Sultanate of Oman: Final Determination of Sales at Less Than Fair Value, 81 FR 75026 (October 28, 2016) (Oman Final Determination); Circular Welded Carbon-Quality Steel Pipe From Pakistan: Final Determination of Sales at Less Than Fair Value, 81 FR 75028 (October 28, 2016); and Circular Welded Carbon-Quality Steel Pipe from the United Arab Emirates: Final Determination of Sales at Less Than Fair Value, 81 FR 75030 (October 28, 2016).

² See ITC Notification Letter to the Deputy Assistant Secretary for Enforcement and Compliance, referencing ITC Investigation Nos. 701-TA-549 and 731-TA-1229, 1300, 1302, and 1303 (December 12, 2016) (ITC Notification).

Scope of the Orders

The merchandise covered by these orders is welded carbon-quality steel pipes and tube, of circular cross-section, with an outside diameter (O.D.) not more than nominal 16 inches (406.4 mm), regardless of wall thickness, surface finish (e.g., black, galvanized, or painted), end finish (plain end, beveled end, grooved, threaded, or threaded and coupled), or industry specification (e.g., American Society for Testing and Materials International (ASTM), proprietary, or other), generally known as standard pipe, fence pipe and tube, sprinkler pipe, and structural pipe (although subject product may also be referred to as mechanical tubing). Specifically, the term “carbon quality” includes products in which:

(a) iron predominates, by weight, over each of the other contained elements;

(b) the carbon content is 2 percent or less, by weight; and

(c) none of the elements listed below exceeds the quantity, by weight, as indicated:

(i) 1.80 percent of manganese;

(ii) 2.25 percent of silicon;

(iii) 1.00 percent of copper;

(iv) 0.50 percent of aluminum;

(v) 1.25 percent of chromium;

(vi) 0.30 percent of cobalt;

(vii) 0.40 percent of lead;

(viii) 1.25 percent of nickel;

(ix) 0.30 percent of tungsten;

(x) 0.15 percent of molybdenum;

(xi) 0.10 percent of niobium;

(xii) 0.41 percent of titanium;

(xiii) 0.15 percent of vanadium; or

(xiv) 0.15 percent of zirconium.

Covered products are generally made to standard O.D. and wall thickness combinations. Pipe multi-stenciled to a standard and/or structural specification and to other specifications, such as American Petroleum Institute (API) API-5L specification, may also be covered by the scope of these investigations. In particular, such multi-stenciled merchandise is covered when it meets the physical description set forth above, and also has one or more of the following characteristics: is 32 feet in length or less; Is less than 2.0 inches (50 mm) in outside diameter; has a galvanized and/or painted (e.g., polyester coated) surface finish; or has a threaded and/or coupled end finish.

Standard pipe is ordinarily made to ASTM specifications A53, A135, and A795, but can also be made to other specifications. Structural pipe is made primarily to ASTM specifications A252 and A500. Standard and structural pipe may also be produced to proprietary specifications rather than to industry specifications.

Sprinkler pipe is designed for sprinkler fire suppression systems and may be made to industry specifications such as ASTM A53 or to proprietary specifications.

Fence tubing is included in the scope regardless of certification to a specification listed in the exclusions below, and can also be made to the ASTM A513 specification. Products that meet the physical description set forth above but are made to the following nominal outside diameter and wall thickness combinations, which are recognized by the industry as typical for fence tubing, are included despite being certified to ASTM mechanical tubing specifications:

O.D. in inches (nominal) | Wall thickness in inches (nominal) | Gage
1.315 | 0.035 | 20
1.315 | 0.047 | 18
1.315 | 0.055 | 17
1.315 | 0.065 | 16
1.315 | 0.072 | 15
1.315 | 0.083 | 14
1.315 | 0.095 | 13
1.660 | 0.055 | 17
1.660 | 0.065 | 16
1.660 | 0.083 | 14
1.660 | 0.095 | 13
1.660 | 0.109 | 12
1.900 | 0.047 | 18
1.900 | 0.055 | 17
1.900 | 0.065 | 16
1.900 | 0.072 | 15
1.900 | 0.095 | 13
1.900 | 0.109 | 12
2.375 | 0.047 | 18
2.375 | 0.055 | 17
2.375 | 0.065 | 16
2.375 | 0.072 | 15
2.375 | 0.095 | 13
2.375 | 0.109 | 12
2.375 | 0.120 | 11
2.875 | 0.109 | 12
2.875 | 0.165 | 8
3.500 | 0.109 | 12
3.500 | 0.165 | 8
4.000 | 0.148 | 9
4.000 | 0.165 | 8
4.500 | 0.203 | 7

The scope of these orders does not include:

(a) pipe suitable for use in boilers, superheaters, heat exchangers, refining furnaces and feedwater heaters, whether or not cold drawn, which are defined by standards such as ASTM A178 or ASTM A192;

(b) finished electrical conduit, i.e., Electrical Rigid Steel Conduit (also known as Electrical Rigid Metal Conduit and Electrical Rigid Metal Steel Conduit), Finished Electrical Metallic Tubing, and Electrical Intermediate Metal Conduit, which are defined by specifications such as American National Standard (ANSI) C80.1-2005, ANSI C80.3-2005, or ANSI C80.6-2005, and Underwriters Laboratories Inc. (UL) UL-6, UL-797, or UL-1242;

(c) finished scaffolding, i.e., component parts of final, finished scaffolding that enter the United States unassembled as a “kit.” A kit is understood to mean a packaged combination of component parts that contains, at the time of importation, all of the necessary component parts to fully assemble final, finished scaffolding;

(d) tube and pipe hollows for redrawing;

(e) oil country tubular goods produced to API specifications;

(f) line pipe produced to only API specifications, such as API 5L, and not multi-stenciled; and

(g) mechanical tubing, whether or not cold-drawn, other than what is included in the above paragraphs.

The products subject to these orders are currently classifiable in Harmonized Tariff Schedule of the United States (HTSUS) statistical reporting numbers 7306.19.1010, 7306.19.1050, 7306.19.5110, 7306.19.5150, 7306.30.1000, 7306.30.5015, 7306.30.5020, 7306.30.5025, 7306.30.5032, 7306.30.5040, 7306.30.5055, 7306.30.5085, 7306.30.5090, 7306.50.1000, 7306.50.5030, 7306.50.5050, and 7306.50.5070. The HTSUS subheadings above are provided for convenience and U.S. Customs purposes only. The written description of the scope of the orders is dispositive.

Amendment to Oman Final Determination

By statute, the term ministerial error includes errors in addition, subtraction, or other arithmetic function, clerical errors resulting from inaccurate copying, duplication, or the like, and any other type of unintentional error which the Secretary considers ministerial.³

³ See section 735(e) of the Act.

Pursuant to section 735(e) of the Act and 19 CFR 351.224 (e) and (f), the Department is amending the Oman Final Determination to reflect the correction of a ministerial error it made in calculating the final margin assigned to Al Jazeera Steel Products Co. SAOG (Al Jazeera). In addition, because the Oman all-others rate is based solely on Al Jazeera's dumping margin, we are revising the all-others rate.⁴

⁴ See the “Estimated Weighted-Average Dumping Margins” section below.

Al Jazeera reported its cost of production (COP) data on a different weight basis than its sales data.⁵ In the final determination, we revised Al Jazeera's COP data, consistent with the sales data.⁶ On November 1, 2016, the petitioners ⁷ submitted a ministerial error allegation claiming that, in implementing this change, the Department recalculated the total cost of manufacturing of each control number, but neglected to make the same adjustment to the fixed overhead field. We reviewed the record, and agree that we made a ministerial error within the meaning of section 735(e) and 19 CFR 351.224(f). Specifically, we made an unintentional error with regard to the calculation of Al Jazeera's per-unit costs.⁸ Pursuant to 351.224(e), we have corrected this error in this notice.

⁵ See the Oman Final Determination and accompanying Issues and Decision Memorandum at Comment 4.

⁶ Id.

⁷ The petitioners are Bull Moose Tube Company, EXLTUBE, Wheatland Tube Company, and Western Tube and Conduit (collectively, the petitioners).

⁸ See Memorandum to Christian Marsh, Deputy Assistant Secretary, AD/CVD Operations, entitled “Allegation of a Ministerial Error in the Final Determination,” dated November 18, 2016.

Antidumping Duty Orders

As stated above, on December 12, 2016, in accordance with section 735(d) of the Act, the ITC notified the Department of its final determinations in these investigations, in which it found material injury with respect to circular welded carbon-quality steel pipe from Oman, Pakistan, and the UAE.⁹ Therefore, in accordance with section 735(c)(2) of the Act, we are issuing these antidumping duty orders. Because the ITC determined that imports of circular welded carbon-quality steel pipe from Oman, Pakistan, and the UAE are materially injuring a U.S. industry, unliquidated entries of such merchandise from Oman, Pakistan, and the UAE entered or withdrawn from warehouse for consumption, are subject to the assessment of antidumping duties.

⁹ See ITC Notification.

Therefore, in accordance with section 736(a)(1) of the Act, the Department will direct U.S. Customs and Border Protection (CBP) to assess, upon further instruction by the Department, antidumping duties equal to the amount by which the normal value of the merchandise exceeds the export price (or constructed export price) of the merchandise, for all relevant entries of circular welded carbon-quality steel pipe from Oman, Pakistan, and the UAE. Antidumping duties will be assessed on unliquidated entries of circular welded carbon-quality steel pipe from Oman, Pakistan, and the UAE entered, or withdrawn from warehouse, for consumption on or after June 8, 2016, the date of publication of the preliminary determinations.¹⁰

¹⁰ See Circular Welded Carbon-Quality Steel Pipe from the Sultanate of Oman: Affirmative Preliminary Determination of Sales at Less Than Fair Value and Postponement of Final Determination, 81 FR 36871 (June 8, 2016) (Oman Preliminary Determination); Circular Welded Carbon-Quality Steel Pipe from Pakistan: Affirmative Preliminary Determination of Sales at Less Than Fair Value and Postponement of Final Determination and Extension of Provisional Measures, 81 FR 36867 (June 8, 2016) (Pakistan Preliminary Determination); and Circular Welded Carbon-Quality Steel Pipe from the United Arab Emirates: Affirmative Preliminary Determination of Sales at Less Than Fair Value and Postponement of Final Determination, 81 FR 36881 (June 8, 2016) (UAE Final Determination).

Suspension of Liquidation

In accordance with section 735(c)(1)(B) of the Act, we will instruct CBP to continue to suspend liquidation on all relevant entries of circular welded carbon-quality steel pipe from Oman, Pakistan, and the UAE. These instructions suspending liquidation will remain in effect until further notice.

We will also instruct CBP to require cash deposits equal to the amounts as indicated below. Accordingly, effective on the date of publication of the ITC's final affirmative injury determinations, CBP will require, at the same time as importers would normally deposit estimated duties on this subject merchandise, a cash deposit equal to the estimated weighted-average dumping margins listed below.¹¹ The relevant all-others rates apply to all producers or exporters not specifically listed.

¹¹ See section 736(a)(3) of the Act.

Provisional Measures

Section 733(d) of the Act states that instructions issued pursuant to an affirmative preliminary determination may not remain in effect for more than four months, except where exporters representing a significant proportion of exports of the subject merchandise request the Department to extend that four-month period to no more than six months. At the request of exporters that account for a significant proportion of circular welded carbon-quality steel pipe from Oman, Pakistan, and the UAE, we extended the four-month period to six months in each case.¹² In the underlying investigations, the Department published the preliminary determinations on June 8, 2016. Therefore, the extended period, beginning on the date of publication of the preliminary determinations, ended December 5, 2016. Furthermore, section 737(b) of the Act states that definitive duties are to begin on the date of publication of the ITC's final injury determination.

¹² See Oman Preliminary Determination; Pakistan Preliminary Determination; and UAE Preliminary Determination.

Therefore, in accordance with section 733(d) of the Act and our practice, we will instruct CBP to terminate the suspension of liquidation and to liquidate, without regard to antidumping duties, unliquidated entries of circular welded carbon-quality steel pipe from Oman, Pakistan, and the UAE entered, or withdrawn from warehouse, for consumption on or after December 5, 2016, the date on which the provisional measures expired, until and through the day preceding the date of publication of the ITC's final injury determinations in the Federal Register. Suspension of liquidation will resume on the date of publication of the ITC's final determinations in the Federal Register.

Estimated Weighted-Average Dumping Margins

The weighted-average dumping margins percentages are as follows:

| Exporter/producer | Dumping margins (percent)
Oman | Al Jazeera Steel Products Co. SAOG All Others | 7.36 7.36

| Exporter/producer | Dumping margins (percent)
Pakistan | International Industries Limited All Others | 11.80 11.80

| Exporter/producer | Dumping margins (percent)
United Arab Emirates | Ajmal Steel Tubes & Pipes Ind. L.L.C | 6.43
| Universal Tube and Plastic Industries, LLC—Jebel Ali Branch/Universal Tube and Pipe Industries, Ltd./KHK Scaffolding and Framework LLC | 5.58
| All Others | 5.95

This notice constitutes the antidumping duty orders with respect to circular welded carbon-quality steel pipe from Oman, Pakistan, and the UAE pursuant to section 736(a) of the Act. Interested parties can find a list of antidumping duty orders currently in effect at http://enforcement.trade.gov/stats/iastats1.html.

These orders are published in accordance with section 736(a) of the Act and 19 CFR 351.211.

Dated: December 13, 2016.
Paul Piquado,
Assistant Secretary, for Enforcement and Compliance.

[FR Doc. 2016-30535 Filed 12-16-16; 8:45 am]

BILLING CODE 3510-DS-P